DEPARTMENT OF HEALTH AND HUMAN SERVICES

Health Resources and Services Administration

Traumatic Brain Injury Program; Traumatic Brain Injury Protection and Advocacy Grants

AGENCY: Health Resources and Services Administration, HHS.

ACTION: Notice of availability of funds.

SUMMARY: The Health Resources and Services Administration (HRSA) announces that $1.5 million in fiscal year (FY) 2002 funds is available for up to 33 Protection and Advocacy (P&A) Grants to existing State P&A systems to provide services to individuals with traumatic brain injury (TBI). P&A services include the provision of (1) information, referrals and advice; (2) individual and family advocacy; (3) legal representation; and (4) specific assistance in self-advocacy. Currently, an estimated 5.3 million individuals are living with the effects of TBI. TBI can cause chronic physical impairments, and long-term problems with cognition, emotional functioning, and behavior. A recent study by the U.S General Accounting Office (GAO) found that many individuals with TBI are not receiving the services they need to remain in the community. The purpose of these grants is to improve access and coordination of TBI services and supports for individuals and their families. All grants will be made under the program authority of the Public Health Service Act, Title XII, Section 1253 (42 U.S.C. 300d-53), and will be administered by the Maternal and Child Health Bureau (MCHB), HRSA. Awards for TBI P&A grants may be approved for up to three years. States are eligible for $50,000 each. Territories and American Indian Consortia are eligible for $20,000 each. Funding after the initial year is contingent upon the availability of funds.

DATES: Applicants are expected to notify MCHB of their intent by May 24, 2002. The deadline for receipt of applications is June 14, 2002. Applications will be considered “on time” if they are either received on or before the deadline date or postmarked on or before the deadline date. The projected award date is August 19, 2002.

ADDRESSES: To receive a complete application kit, applicants may telephone the HRSA Grants Application Center at 1-877-477-2123 (1-877-HRSA-123) beginning May 14, 2002, or register on-line at: http://www.hrsa.gov/_order3.htm directly. The Traumatic Brain Injury P&A Grant Program uses the standard Form PHS 5161-1 (rev. 7/00) for applications (approved under OMB No. 0920-0428). Applicants must use Catalog of Federal Domestic Assistance (CFDA) #93.234D when requesting an application kit. The CFDA is a Government-wide compendium of enumerated Federal programs, project services, and activities that provide assistance. All applications must be mailed or delivered to Grants Management Officer, MCHB: HRSA Grants Application Center, 901 Russell Avenue, Suite 450 Gaithersburg, MD 20897 telephone 1-877-477-2123: E-mail: hrsagac@hrsa.gov. Necessary application forms and an expanded version of this Federal Register notice may be downloaded in either Microsoft Office 2000 or Adobe Acrobat format (.pdf) from the MCHB Home Page at http://www.mchb.hrsa.gov. Please contact Joni Johns, at 301/443-2088, or jjohns@hrsa.gov, if you need technical assistance in accessing the MCHB Home Page via the Internet. This notice will appear in the Federal Register and or HRSA Home page at http://www.hrsa.gov/. Federal Register notices are found on the World Wide Web by following instructions at: http://www.access.gpo.gov/su_docs/aces/aces140.html.

Letter of Intent: Notification of intent to apply should be directed to Betty Hastings, M.S.W., by email, bhastings@hrsa.gov; or mail, MCHB, HRSA; Traumatic Brain Injury Program, Parklawn Building, Room 18A-38; 5600 Fishers Lane; Rockville, MD 20857.

FOR FURTHER INFORMATION CONTACT: Betty Hastings, M.S.W., 301/443-5599, or e-mail: bhastings@hrsa.gov (for questions specific to project objectives and activities of the program; or the required Letter of Intent); Marilyn Stewart, 301/443-1440, email mstewart@hrsa.gov (for grants policy, budgetary, and business questions).

SUPPLEMENTARY INFORMATION:

Traumatic Brain Injury Program Background and Objectives

Traumatic brain injury (TBI) is sudden physical damage to the brain, often caused by motor vehicle accidents, falls, sports injuries, violent crimes, or child abuse. TBI can result in physical, behavioral, and/or mental changes, depending on the areas of the brain that are injured. TBI is the leading cause of death and disability among young people in the United States. Approximately 200,000 Americans die each year from traumatic injuries. An additional half million are hospitalized. About 10 percent of the surviving individuals have mild to moderate problems that threaten their ability to live independently. Another 200,000 have serious problems that may require institutionalization or some other form of close supervision.

The number of people surviving TBI has increased significantly in recent years because of more effective emergency care; transportation to specialized treatment facilities, and acute medical management. Currently, an estimated 5.3 million Americans are living with the effects of TBI. The direct medical costs for treatment of TBI have been estimated to be over $4.5 billion, annually.

Although TBI can cause chronic physical impairments, often the individual has more disability due to problems with cognition, emotional functioning, and behavior in connection with interpersonal relationships, school, or work. The result is frequently a dramatic change in the individual's life-course, profound disruption of the family, and huge medical and related expenses over a lifetime. Rehabilitation efforts can require years of treatment, starting in the hospital, and extending through formal inpatient and outpatient rehabilitation to a variety of day treatment or residential programs.

The cognitive and communication problems of TBI are best treated early; often beginning while the individual is still in the hospital. Longer-term rehabilitation may be performed individually, in groups, or both, depending on the needs of the individual. This therapy often occurs in a rehabilitation facility designed specifically for the treatment of individuals with TBI. The goal of rehabilitation is to help affected individuals progress to the most independent level of functioning possible. Therapy focuses on regaining lost skills, as well as learning ways to compensate for abilities that have been permanently changed because of TBI.

According to a recent GAO study of services, adults with TBI often have permanent disability that requires long-term supportive services to remain in the community. In an analysis of eleven States, the gap between the number of individuals with TBI receiving long-term services and the estimated number of disabled adults with TBI remains wide.

Until FY 2002, two categories of TBI demonstration grants were available: (1) State TBI Planning Grants and (2) State TBI Implementation Grants. Thirty-three States and the District of Columbia received planning grants to develop an Action Plan to improve the State's TBI service system. Grantees developed four “core capacity” components: (1) A statewide TBI Advisory Board; (2) designated State agency and staff position(s) responsible for State TBI activities; (3) a statewide needs/resource assessment to address the full spectrum of services from initial acute treatment through rehabilitation and long-term community services for individuals with TBI; and (4) a statewide Action Plan outlining steps needed to develop a comprehensive, community-based system of care encompassing physical, psychological, educational, vocational, and social aspects of TBI services, and addressing the needs of individuals with TBI and their families.

Twenty-six States received Implementation Grants. States used these grants to focus on key priorities identified in their statewide action plans, including: (1) Leadership in integrating individuals with TBI and their families into the broader service delivery system; (2) human resources, personnel, training, and education on TBI issues; (3) data collection, evaluation, and information management to improve delivery of TBI services; (4) public information and education regarding TBI issues; (5) and coordination with other public health and disability community services.

The Children's Health Act of 2000, Public Law 106-310, established two additional grant categories: (1) Post Demonstration Grants for States that have successfully completed a TBI Implementation Grant, and (2) TBI Protection and Advocacy (P&A) grants. This notice announces the availability of funds specifically for P&A grants. The purpose of P&A grants is to provide (1) information, referrals and advice; (2) individual and family advocacy; (3) legal representation; and (4) specific assistance in self-advocacy to individuals with TBI and their families.

Authorization: Public Health Service Act, Title XII, Section 1253, 42 U.S.C. 300d-53.

Purpose: As Congress recognized with the passage of the Traumatic Brain Injury Act of 1996 and its reauthorization in the Children's Health Act of 2000, there is a pressing need for improved access to and coordination of TBI services and support for individuals with TBI and their families. Additionally, Congress recognized that State (including Tribal and Territorial) P&A systems are critical to achieving the goals and objectives of the TBI Act. Thus, section 1253 includes language authorizing the Secretary, acting through the Administrator of HRSA, to make grants to existing State P&A systems for the purposes of strengthening P&A service delivery to individuals with TBI and their families. The planning and assessment of State TBI P&A systems, responsiveness to TBI issues, and outreach strategies to the brain injury community are critical to ensure that P&A services will be delivered appropriately for individuals with TBI and their families.

The purpose of these grants, therefore, is to enable State P&A systems to develop a plan to address the needs of individuals with TBI and their families. These plans are expected to identify the resources and operational structure needed to provide P&A services to individuals with TBI, identify information needs and develop the ability to provide information and advocacy training for individuals with TBI and their families, present a mechanism for sustaining TBI P&A activities in their States, and provide an operational structure for implementing the plan and providing P&A services. Thus, P&A grantees may work with individuals with TBI, their families, State TBI grantees, and other stakeholders to: (1) Assess statewide needs and capacity; (2) determine the best approach for identifying individuals and families within and outside the State service system; (3) develop and provide P&A-related education and training materials; and, (4) develop an action plan that provides a mechanism for serving individuals with TBI and their families.

Eligibility: Eligible for funding are: State P&A systems established under part C of the Developmental Disabilities Assistance and Bill of Rights Act (42 U.S.C. 6042 et seq.) in the several States of the United States, the District of Columbia, the Commonwealth of Puerto Rico, the United States Virgin Islands, Guam, American Samoa, and the Commonwealth of the Northern Mariana Islands, and American Indian Consortia established under part C of the Developmental Disabilities Assistance Bill of Rights Act (42 U.S.C. 6042 et seq.).

Funding Level/Project Period: Projects will be approved for up to three years. States are eligible for $50,000 each. Territories and American Indian Consortia are eligible for $20,000 each. MCHB expects to award 28 P&A grants to States, and 5 P&A grants to U.S. Territories and American Indian Consortia. The initial budget period for TBI P&A Grants is expected to be 12 months, with any subsequent budget period being 12 months. Continuation of any TBI project from one budget period to the next is subject to satisfactory performance, program priorities, and availability of funds.

Review Criteria: An objective review panel will evaluate applications for P&A grants. Based on the quality of the responses, an application may receive up to 100 points on the following review criteria:

1. A plan to enable the P&A system to provide services for individuals with TBI and their families (25 points).

• The proposed services.

• The balance of individual TBI cases and systemic work.

• Recognition of the unique needs of the area.

2. A comprehensive approach to collaboration, partnership and outreach (25 points).

• Established relationships with the brain injury community.

• The evidence and breadth of collaboration demonstrated in the narrative and letters of support.

• Participation with the State TBI State grant project if one exists.

3. A demonstrated knowledge of the needs of individuals with TBI and their families (25 points).

• Financial and human resources have been committed by the State P&A towards improving the services for individuals for TBI and their families.

• The roles, responsibilities and skills of the project staff are sufficient to meet the goals and objectives of the project within the proposed time period.

• The project management plan is reasonable and will build State P&A capacity.

4. Project Evaluation (25 points).

• The methodology that will be used to achieve the goals and objectives of the project.

• The strength of the project evaluation plan.

Additional criteria may be used to review and rank applications for this competition. Any such criteria will be identified in the program guidance included in the application kit. Applicants should pay strict attention to addressing these criteria, as they are the basis upon which their applications will be judged.

Paperwork Reduction Act

OMB approval for any data collection in connection with these grants will be sought, as required under the Paperwork Reduction Act of 1995.

Executive Order 12372

This program has been determined to be a program which is subject to the provisions of Executive Order 12372 concerning intergovernmental review of Federal programs by appropriate health planning agencies, as implemented by 45 CFR part 100. Executive Order 12372 allows States the option of setting up a system for reviewing applications from within their States for assistance under certain Federal programs. The application packages to be made available under this notice will contain a listing of States that have chosen to set up such a review system and will provide a single point of contact (SPOC) in the States for review. Applicants (other than federally-recognized Indian tribal governments) should contact their State SPOCS as early as possible to alert them to the prospective applications and receive any necessary instructions on the State process. For proposed projects serving more than one State, the applicant is advised to contact the SPOC of each affected State. The due date for State process recommendations is 60 days after the application deadline for new and competing awards. The granting agency does not guarantee to “accommodate or explain” for State process recommendations it receives after that date. (See Part 148, Intergovernmental Review of PHS Programs under Executive Order 12372 and 45 CFR part 100 for a description of the review process and requirements).

Dated: April 12, 2002.
Elizabeth M. Duke,
Administrator.

[FR Doc. 02-11832 Filed 5-10-02; 8:45 am]

BILLING CODE 4165-15-P